DEPARTMENT OF TRANSPORTATION

Federal Aviation Administration

14 CFR Part 97

[Docket No. 31068 Amdt. No. 3688]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 24, 2016. The compliance date for each SIAP, associated Takeoff Minimums, and ODP is specified in the amendatory provisions.

The incorporation by reference of certain publications listed in the regulations is approved by the Director of the Federal Register as of March 24, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on March 11, 2016.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
28-Apr-16 | PA | Meadville | Port Meadville | 5/0049 | 03/01/16 | LOC RWY 25, Amdt 6B.
28-Apr-16 | PA | Meadville | Port Meadville | 5/0069 | 03/01/16 | RNAV (GPS) RWY 7, Amdt 1B.
28-Apr-16 | PA | Meadville | Port Meadville | 5/0070 | 03/01/16 | RNAV (GPS) RWY 25, Amdt 1B.
28-Apr-16 | PA | Williamsport | Williamsport Rgnl | 5/0073 | 03/03/16 | RNAV (GPS) RWY 9, Orig-A.
28-Apr-16 | ME | Waterville | Waterville Robert Lafleur | 5/0190 | 02/23/16 | ILS OR LOC/DME RWY 5, Amdt 4A.
28-Apr-16 | ME | Waterville | Waterville Robert Lafleur | 5/0191 | 02/23/16 | RNAV (GPS) RWY 5, Amdt 1A.
28-Apr-16 | VA | Roanoke | Roanoke-Blacksburg Rgnl/Woodrum Field | 5/0239 | 03/03/16 | RNAV (GPS) RWY 24, Amdt 1A.
28-Apr-16 | VA | Roanoke | Roanoke-Blacksburg Rgnl/Woodrum Field | 5/0242 | 03/03/16 | RNAV (GPS) RWY 34, Amdt 1B.
28-Apr-16 | VA | Roanoke | Roanoke-Blacksburg Rgnl/Woodrum Field | 5/0243 | 03/03/16 | VOR RWY 34, Amdt 1A.
28-Apr-16 | VA | Roanoke | Roanoke-Blacksburg Rgnl/Woodrum Field | 5/0245 | 03/03/16 | VOR/DME-A, Amdt 7.
28-Apr-16 | NV | Las Vegas | Mc Carran Intl | 5/0253 | 02/29/16 | ILS OR LOC/DME RWY 1L, Amdt 1.
28-Apr-16 | VA | Roanoke | Roanoke-Blacksburg Rgnl/Woodrum Field | 5/0273 | 03/03/16 | ILS OR LOC RWY 34, Amdt 14B.
28-Apr-16 | OR | The Dalles | Columbia Gorge Rgnl/The Dalles Muni | 5/0502 | 02/29/16 | COPTER LDA/DME RWY 25, Amdt 1.
28-Apr-16 | OR | The Dalles | Columbia Gorge Rgnl/The Dalles Muni | 5/0503 | 02/29/16 | LDA/DME RWY 25, Amdt 1.
28-Apr-16 | MT | Laurel | Laurel Muni | 5/0506 | 02/29/16 | RNAV (GPS) RWY 22, Amdt 1.
28-Apr-16 | MT | Laurel | Laurel Muni | 5/0507 | 02/29/16 | RNAV (GPS) RWY 4, Amdt 1.
28-Apr-16 | WA | Pullman/Moscow,ID | Pullman/Moscow Rgnl | 5/0508 | 02/29/16 | RNAV (GPS) RWY 24, Amdt 1B.
28-Apr-16 | WA | Pullman/Moscow,ID | Pullman/Moscow Rgnl | 5/0509 | 02/29/16 | RNAV (RNP) Z RWY 6, Orig-A.
28-Apr-16 | WA | Pullman/Moscow,ID | Pullman/Moscow Rgnl | 5/0511 | 02/29/16 | RNAV (GPS) Y RWY 6, Amdt 2C.
28-Apr-16 | WA | Pullman/Moscow,ID | Pullman/Moscow Rgnl | 5/0515 | 02/29/16 | VOR RWY 6, Amdt 9A.
28-Apr-16 | KY | Madisonville | Madisonville Rgnl | 5/0577 | 02/23/16 | RNAV (GPS) RWY 5, Orig-A.
28-Apr-16 | KY | Madisonville | Madisonville Rgnl | 5/0578 | 02/23/16 | VOR RWY 23, Amdt 14A.
28-Apr-16 | KY | Madisonville | Madisonville Rgnl | 5/0582 | 02/23/16 | RNAV (GPS) RWY 23, Orig-A.
28-Apr-16 | NJ | Readington | Solberg-Hunterdon | 5/0657 | 02/23/16 | VOR RWY 4, Amdt 1A.
28-Apr-16 | NJ | Readington | Solberg-Hunterdon | 5/0658 | 02/23/16 | RNAV (GPS) RWY 22, Orig-A.
28-Apr-16 | NJ | Readington | Solberg-Hunterdon | 5/0661 | 02/23/16 | RNAV (GPS) RWY 4, Orig-A.
28-Apr-16 | NH | Nashua | Boire Field | 5/0811 | 02/23/16 | ILS OR LOC RWY 14, Amdt 1A.
28-Apr-16 | NH | Nashua | Boire Field | 5/0816 | 02/23/16 | RNAV (GPS) RWY 14, Amdt 1A.
28-Apr-16 | NH | Nashua | Boire Field | 5/0817 | 02/23/16 | RNAV (GPS) RWY 32, Amdt 1A.
28-Apr-16 | NH | Nashua | Boire Field | 5/0818 | 02/23/16 | VOR-A, Amdt 12.
28-Apr-16 | NC | Fayetteville | Fayetteville Rgnl/Grannis Field | 5/0885 | 03/03/16 | VOR RWY 22, Amdt 7.
28-Apr-16 | NC | Fayetteville | Fayetteville Rgnl/Grannis Field | 5/0886 | 03/03/16 | VOR RWY 28, Amdt 8.
28-Apr-16 | NC | Fayetteville | Fayetteville Rgnl/Grannis Field | 5/0888 | 03/03/16 | RNAV (GPS) RWY 10, Orig.
28-Apr-16 | IL | Cahokia/St Louis | St Louis Downtown | 5/1406 | 02/23/16 | ILS OR LOC RWY 30L, Amdt 9A.
28-Apr-16 | IL | Cahokia/St Louis | St Louis Downtown | 5/1407 | 02/23/16 | RNAV (GPS) RWY 30L, Orig-B.
28-Apr-16 | KY | Monticello | Wayne County | 5/1569 | 03/03/16 | RNAV (GPS) RWY 21, Orig-A.
28-Apr-16 | WA | Hoquiam | Bowerman | 5/1682 | 02/24/16 | RNAV (GPS) RWY 24, Amdt 2C.
28-Apr-16 | NC | Jacksonville | Albert J Ellis | 5/1961 | 03/01/16 | NDB RWY 5, Amdt 8B.
28-Apr-16 | NC | Roanoke Rapids | Halifax-Northampton Rgnl | 5/2003 | 03/03/16 | VOR/DME RWY 2, Orig-B.
28-Apr-16 | MS | Meridian | Key Field | 5/2868 | 03/03/16 | ILS OR LOC RWY 1, Amdt 26.
28-Apr-16 | MS | Meridian | Key Field | 5/2869 | 03/03/16 | RNAV (GPS) RWY 19, Amdt 1.
28-Apr-16 | MS | Meridian | Key Field | 5/2870 | 03/03/16 | RNAV (GPS) RWY 1, Amdt 3.
28-Apr-16 | MS | Meridian | Key Field | 5/2871 | 03/03/16 | RNAV (GPS) RWY 4, Amdt 1.
28-Apr-16 | CA | Mariposa | Mariposa-Yosemite | 5/3308 | 02/29/16 | RNAV (GPS)-A, Orig.
28-Apr-16 | CA | Mariposa | Mariposa-Yosemite | 5/3309 | 02/29/16 | RNAV (GPS)-B, Orig.
28-Apr-16 | WA | Spokane | Spokane Intl | 5/3564 | 02/29/16 | RNAV (RNP) Z RWY 7, Orig.
28-Apr-16 | IA | Pocahontas | Pocahontas Muni | 5/4229 | 02/23/16 | RNAV (GPS) RWY 12, Orig-C.
28-Apr-16 | IA | Pocahontas | Pocahontas Muni | 5/4230 | 02/23/16 | RNAV (GPS) RWY 30, Orig-C.
28-Apr-16 | IA | Pocahontas | Pocahontas Muni | 5/4235 | 02/23/16 | VOR/DME RWY 30, Amdt 4B.
28-Apr-16 | IA | Pocahontas | Pocahontas Muni | 5/4236 | 02/23/16 | NDB RWY 12, Amdt 5C.
28-Apr-16 | PA | Williamsport | Williamsport Rgnl | 5/4518 | 03/03/16 | RNAV (GPS) RWY 12, Orig-A.
28-Apr-16 | PA | Williamsport | Williamsport Rgnl | 5/4521 | 03/03/16 | ILS OR LOC RWY 27, Amdt 16A.
28-Apr-16 | PA | Williamsport | Williamsport Rgnl | 5/5686 | 03/03/16 | RNAV (GPS) RWY 30, Orig-A.
28-Apr-16 | CA | Monterey | Monterey Rgnl | 5/5781 | 02/29/16 | ILS OR LOC RWY 10R, Amdt 28.
28-Apr-16 | MI | Harbor Springs | Harbor Springs | 5/6457 | 02/24/16 | RNAV (GPS) RWY 10, Amdt 1.
28-Apr-16 | MI | Harbor Springs | Harbor Springs | 5/6460 | 02/24/16 | RNAV (GPS) RWY 28, Amdt 2.
28-Apr-16 | IA | Boone | Boone Muni | 5/6608 | 03/03/16 | RNAV (GPS) RWY 33, Amdt 1A.
28-Apr-16 | ID | Twin Falls | Joslin Field—Magic Valley Rgnl | 5/7326 | 02/24/16 | ILS OR LOC RWY 26, Amdt 10.
28-Apr-16 | ID | Twin Falls | Joslin Field—Magic Valley Rgnl | 5/7327 | 02/24/16 | RNAV (GPS) RWY 26, Amdt 1.
28-Apr-16 | ID | Twin Falls | Joslin Field—Magic Valley Rgnl | 5/7332 | 02/24/16 | RNAV (GPS) RWY 8, Amdt 1.
28-Apr-16 | ID | Twin Falls | Joslin Field—Magic Valley Rgnl | 5/7333 | 02/24/16 | VOR RWY 26, Amdt 16.
28-Apr-16 | ID | Twin Falls | Joslin Field—Magic Valley Rgnl | 5/7334 | 02/24/16 | VOR RWY 8, Amdt 5.
28-Apr-16 | ID | Twin Falls | Joslin Field—Magic Valley Rgnl | 5/7335 | 02/24/16 | VOR/DME RWY 8, Amdt 1.
28-Apr-16 | TX | Midland | Midland Intl | 5/7419 | 02/23/16 | RNAV (GPS) RWY 4, Amdt 1A.
28-Apr-16 | CO | Rifle | Garfield County Rgnl | 5/7626 | 02/29/16 | ILS RWY 26, Amdt 3.
28-Apr-16 | OH | Wilmington | Clinton Field | 5/7674 | 03/07/16 | RNAV (GPS) RWY 21, Amdt 1.
28-Apr-16 | VA | South Hill | Mecklenburg-Brunswick Rgnl | 5/7872 | 03/01/16 | LOC RWY 1, Orig-C.
28-Apr-16 | VA | South Hill | Mecklenburg-Brunswick Rgnl | 5/7873 | 03/01/16 | RNAV (GPS) RWY 1, Orig-B.
28-Apr-16 | VA | South Hill | Mecklenburg-Brunswick Rgnl | 5/7874 | 03/01/16 | RNAV (GPS) RWY 19, Orig-B.
28-Apr-16 | MT | Billings | Billings Logan Intl | 5/8056 | 03/01/16 | ILS OR LOC RWY 10L, Amdt 25.
28-Apr-16 | MT | Billings | Billings Logan Intl | 5/8057 | 03/01/16 | RNAV (GPS) RWY 25, Amdt 1.
28-Apr-16 | MT | Billings | Billings Logan Intl | 5/8058 | 03/01/16 | RNAV (GPS) RWY 7, Amdt 1.
28-Apr-16 | MT | Billings | Billings Logan Intl | 5/8060 | 03/01/16 | VOR/DME RWY 28R, Amdt 14A.
28-Apr-16 | WA | Seattle | Seattle-Tacoma Intl | 5/8220 | 02/29/16 | ILS OR LOC RWY 34L, ILS RWY 34L (SA CAT I), ILS RWY 34L (SA CAT II), Amdt 1C.
28-Apr-16 | AZ | Douglas Bisbee | Bisbee Douglas Intl | 5/8474 | 03/03/16 | VOR/DME RWY 17, Amdt 6.
28-Apr-16 | AZ | Douglas Bisbee | Bisbee Douglas Intl | 5/8475 | 03/03/16 | VOR RWY 17, Amdt 3.
28-Apr-16 | OH | Piqua | Piqua Airport-Hartzell Field | 5/8875 | 02/24/16 | RNAV (GPS) RWY 8, Orig-B.
28-Apr-16 | OH | Piqua | Piqua Airport-Hartzell Field | 5/8876 | 02/24/16 | VOR-A, Amdt 13A.
28-Apr-16 | OH | Tiffin | Seneca County | 5/9532 | 03/07/16 | RNAV (GPS) RWY 24, Amdt 1A.
28-Apr-16 | TX | Rocksprings | Edwards County | 5/9740 | 03/07/16 | RNAV (GPS) RWY 14, Orig-A.
28-Apr-16 | MN | Fairmont | Fairmont Muni | 5/9782 | 03/07/16 | ILS OR LOC RWY 31, Orig-D.
28-Apr-16 | MN | Fairmont | Fairmont Muni | 5/9784 | 03/07/16 | COPTER ILS 31, Orig-A.
28-Apr-16 | WA | Spokane | Spokane Intl | 5/9991 | 02/23/16 | RNAV (RNP) Z RWY 25, Amdt 1.
28-Apr-16 | WA | Spokane | Spokane Intl | 5/9996 | 02/23/16 | RNAV (GPS) Y RWY 25, Amdt 4.
28-Apr-16 | MT | Great Falls | Great Falls Intl | 6/0048 | 03/07/16 | VOR/DME RWY 3, Amdt 17.
28-Apr-16 | WA | Friday Harbor | Friday Harbor | 6/0050 | 03/01/16 | Takeoff Minimums and (Obstacle) DP, Amdt 3.
28-Apr-16 | GA | Waycross | Waycross-Ware County | 6/0169 | 03/03/16 | ILS Z OR LOC Z RWY 19, Amdt 3.
28-Apr-16 | AL | Decatur | Pryor Field Rgnl | 6/0185 | 03/03/16 | RNAV (GPS) RWY 36, Amdt 2.
28-Apr-16 | CA | Willits | Ells Field-Willits Muni | 6/0338 | 03/03/16 | RNAV (GPS) RWY 34, Amdt 1A.
28-Apr-16 | CA | Sacramento | Sacramento Executive | 6/0473 | 03/01/16 | VOR RWY 2, Amdt 10C.
28-Apr-16 | CA | Sacramento | Sacramento Executive | 6/0474 | 03/01/16 | ILS OR LOC RWY 2, Amdt 24B.
28-Apr-16 | CA | Sacramento | Sacramento Executive | 6/0475 | 03/01/16 | RNAV (GPS) RWY 2, Orig-C.
28-Apr-16 | UT | Richfield | Richfield Muni | 6/0905 | 02/23/16 | RNAV (GPS) RWY 19, Amdt 1A.
28-Apr-16 | GA | Rome | Richard B Russell Regional— J H Towers Field | 6/1523 | 03/07/16 | RNAV (GPS) RWY 7, Orig-A.
28-Apr-16 | GA | Rome | Richard B Russell Regional— J H Towers Field | 6/1524 | 03/07/16 | RNAV (GPS) RWY 25, Orig-A.
28-Apr-16 | IN | Rensselaer | Jasper County | 6/1634 | 03/07/16 | RNAV (GPS) RWY 18, Orig-A.
28-Apr-16 | IN | Rensselaer | Jasper County | 6/1635 | 03/07/16 | RNAV (GPS) RWY 36, Orig-A.
28-Apr-16 | OK | Chandler | Chandler Rgnl | 6/1637 | 03/07/16 | NDB RWY 35, Amdt 1.
28-Apr-16 | OK | Chandler | Chandler Rgnl | 6/1642 | 03/07/16 | RNAV (GPS) RWY 17, Orig.
28-Apr-16 | IN | Indianapolis | Indianapolis Rgnl | 6/1651 | 03/07/16 | ILS OR LOC RWY 25, Amdt 2C.
28-Apr-16 | IN | Indianapolis | Indianapolis Rgnl | 6/1652 | 03/07/16 | RNAV (GPS) RWY 25, Orig.
28-Apr-16 | IN | Indianapolis | Indianapolis Rgnl | 6/1653 | 03/07/16 | VOR RWY 34, Amdt 2A.
28-Apr-16 | IA | Oskaloosa | Oskaloosa Muni | 6/1654 | 03/07/16 | VOR/DME RWY 31, Amdt 3.
28-Apr-16 | PR | Ponce | Mercedita | 6/2026 | 03/03/16 | RNAV (GPS) RWY 12, Orig-B.
28-Apr-16 | CA | Santa Barbara | Santa Barbara Muni | 6/2206 | 02/24/16 | ILS OR LOC RWY 7, Amdt 5.
28-Apr-16 | CA | Santa Barbara | Santa Barbara Muni | 6/2207 | 02/24/16 | VOR OR GPS RWY 25, Amdt 6B.
28-Apr-16 | CA | Santa Barbara | Santa Barbara Muni | 6/2210 | 02/24/16 | RNAV (GPS) RWY 7, Orig-A.
28-Apr-16 | AZ | Douglas Bisbee | Bisbee Douglas Intl | 6/2260 | 03/03/16 | RNAV (GPS) RWY 17, Orig.
28-Apr-16 | IA | Davenport | Davenport Muni | 6/2283 | 02/23/16 | VOR RWY 21, Amdt 8A.
28-Apr-16 | TX | Nacogdoches | A L Mangham Jr Rgnl | 6/2290 | 02/22/16 | ILS OR LOC RWY 36, Amdt 3C.
28-Apr-16 | IA | Eagle Grove | Eagle Grove Muni | 6/2293 | 02/22/16 | VOR/DME-A, Amdt 2.
28-Apr-16 | IA | Eagle Grove | Eagle Grove Muni | 6/2295 | 02/22/16 | RNAV (GPS) RWY 31, Amdt 2A.
28-Apr-16 | IA | Eagle Grove | Eagle Grove Muni | 6/2296 | 02/22/16 | RNAV (GPS) RWY 13, Amdt 1A.
28-Apr-16 | ND | Walhalla | Walhalla Muni | 6/2298 | 02/22/16 | RNAV (GPS) RWY 33, Orig.
28-Apr-16 | SD | Britton | Britton Muni | 6/2301 | 02/23/16 | RNAV (GPS) RWY 31, Amdt 1A.
28-Apr-16 | FL | St Petersburg | Albert Whitted | 6/2442 | 02/23/16 | RNAV (GPS) RWY 7, Amdt 3B.
28-Apr-16 | FL | St Petersburg | Albert Whitted | 6/2443 | 02/23/16 | VOR RWY 18, Amdt 9.
28-Apr-16 | FL | St Petersburg | Albert Whitted | 6/2444 | 02/23/16 | RNAV (GPS) RWY 18, Orig-C.
28-Apr-16 | SC | Darlington | Darlington County Jetport | 6/2445 | 03/07/16 | Takeoff Minimums and (Obstacle) DP, Orig-A.
28-Apr-16 | SC | Darlington | Darlington County Jetport | 6/2446 | 03/07/16 | VOR/DME-A, Amdt 7.
28-Apr-16 | SC | Darlington | Darlington County Jetport | 6/2447 | 03/07/16 | RNAV (GPS) RWY 5, Orig-B.
28-Apr-16 | SC | Darlington | Darlington County Jetport | 6/2448 | 03/07/16 | RNAV (GPS) RWY 23, Orig-B.
28-Apr-16 | SC | Darlington | Darlington County Jetport | 6/2449 | 03/07/16 | NDB RWY 23, Amdt 1.
28-Apr-16 | TN | Athens | Mcminn County | 6/2609 | 02/22/16 | RNAV (GPS) RWY 20, Amdt 1A.
28-Apr-16 | TX | Brady | Curtis Field | 6/2706 | 02/23/16 | RNAV (GPS) RWY 17, Amdt 1A.
28-Apr-16 | NE | Minden | Pioneer Village Field | 6/2710 | 02/22/16 | VOR-A, Orig.
28-Apr-16 | NE | Minden | Pioneer Village Field | 6/2716 | 02/22/16 | RNAV (GPS) RWY 16, Orig.
28-Apr-16 | NE | Minden | Pioneer Village Field | 6/2719 | 02/22/16 | RNAV (GPS) RWY 34, Orig.
28-Apr-16 | TX | Brady | Curtis Field | 6/2958 | 02/23/16 | NDB RWY 17, Amdt 4.
28-Apr-16 | TX | Brady | Curtis Field | 6/2959 | 02/23/16 | RNAV (GPS) RWY 35, Amdt 1.
28-Apr-16 | MD | Fort Meade(Odenton) | Tipton | 6/3585 | 03/01/16 | RNAV (GPS) RWY 10, Amdt 1.
28-Apr-16 | MD | Fort Meade(Odenton) | Tipton | 6/3586 | 03/01/16 | RNAV (GPS) RWY 28, Amdt 1.
28-Apr-16 | MN | Hibbing | Range Rgnl | 6/3791 | 02/23/16 | RNAV (GPS) RWY 13, Amdt 1A.
28-Apr-16 | WV | Buckhannon | Upshur County Rgnl | 6/3981 | 02/29/16 | RNAV (GPS) RWY 11, Amdt 2A.
28-Apr-16 | WV | Buckhannon | Upshur County Rgnl | 6/3982 | 02/29/16 | RNAV (GPS) RWY 29, Amdt 2A.
28-Apr-16 | OR | Bend | Bend Muni | 6/4352 | 02/24/16 | VOR/DME RWY 16, Amdt 10.
28-Apr-16 | OR | Bend | Bend Muni | 6/4353 | 02/24/16 | RNAV (GPS) Y RWY 16, Amdt 2.
28-Apr-16 | VA | Danville | Danville Rgnl | 6/4741 | 02/22/16 | Takeoff Minimums and (Obstacle) DP, Amdt 2.
28-Apr-16 | CA | Oceanside | Oceanside Muni | 6/5020 | 02/22/16 | Takeoff Minimums and (Obstacle) DP, Amdt 4.
28-Apr-16 | WY | Torrington | Torrington Muni | 6/5029 | 02/24/16 | GPS RWY 10, Orig-C.
28-Apr-16 | WY | Torrington | Torrington Muni | 6/5030 | 02/24/16 | GPS RWY 28, Orig-C.
28-Apr-16 | WY | Torrington | Torrington Muni | 6/5031 | 02/24/16 | NDB RWY 10, Amdt 2A.
28-Apr-16 | WY | Torrington | Torrington Muni | 6/5032 | 02/24/16 | NDB RWY 28, Amdt 2A.
28-Apr-16 | OH | Columbus | Rickenbacker Intl | 6/5211 | 02/22/16 | RNAV (GPS) RWY 23R, Orig-A.
28-Apr-16 | MO | Kennett | Kennett Memorial | 6/5265 | 02/24/16 | VOR/DME RWY 20, Amdt 1.
28-Apr-16 | MO | Kennett | Kennett Memorial | 6/5266 | 02/24/16 | RNAV (GPS) RWY 2, Amdt 1.
28-Apr-16 | MO | Kennett | Kennett Memorial | 6/5267 | 02/24/16 | RNAV (GPS) RWY 20, Amdt 1.
28-Apr-16 | MN | Maple Lake | Maple Lake Muni | 6/5287 | 02/23/16 | RNAV (GPS) RWY 28, Orig-A.
28-Apr-16 | MN | Maple Lake | Maple Lake Muni | 6/5288 | 02/23/16 | VOR-A, Amdt 4A.
28-Apr-16 | CA | Upland | Cable | 6/5664 | 03/03/16 | VOR-A, Orig.
28-Apr-16 | MN | Pipestone | Pipestone Muni | 6/5942 | 02/23/16 | RNAV (GPS) RWY 18, Amdt 1A.
28-Apr-16 | MN | Pipestone | Pipestone Muni | 6/5943 | 02/23/16 | RNAV (GPS) RWY 36, Amdt 1A.
28-Apr-16 | SD | Britton | Britton Muni | 6/5955 | 02/23/16 | RNAV (GPS) RWY 13, Amdt 1A.
28-Apr-16 | TN | Mc Minnville | Warren County Memorial | 6/6018 | 02/23/16 | RNAV (GPS) RWY 23, Orig-A.
28-Apr-16 | ND | Kindred | Robert Odegaard Field | 6/6040 | 02/23/16 | RNAV (GPS) RWY 29, Amdt 1A.
28-Apr-16 | OH | St Clairsville | Alderman | 6/6049 | 02/23/16 | VOR-A, Amdt 3A.
28-Apr-16 | WA | Snohomish | Harvey Field | 6/6191 | 03/01/16 | RNAV (GPS)-A, Orig.
28-Apr-16 | CA | Sacramento | Sacramento Mather | 6/6210 | 02/24/16 | RNAV (GPS) RWY 22L, Amdt 2A.
28-Apr-16 | CA | Riverside | Riverside Muni | 6/6229 | 02/24/16 | ILS OR LOC RWY 9, Amdt 8C.
28-Apr-16 | CA | Riverside | Riverside Muni | 6/6230 | 02/24/16 | RNAV (GPS) RWY 9, Amdt 2B.
28-Apr-16 | NM | Carlsbad | Cavern City Air Trml | 6/6347 | 02/24/16 | RNAV (GPS) RWY 32L, Amdt 1B.
28-Apr-16 | IL | Peoria | Mount Hawley Auxiliary | 6/6352 | 02/24/16 | VOR/DME-A, Orig.
28-Apr-16 | NE | David City | David City Muni | 6/6353 | 02/24/16 | RNAV (GPS) RWY 14, Amdt 1.
28-Apr-16 | NE | David City | David City Muni | 6/6354 | 02/24/16 | RNAV (GPS) RWY 32, Amdt 1.
28-Apr-16 | NE | David City | David City Muni | 6/6355 | 02/24/16 | VOR/DME RWY 32, Amdt 1.
28-Apr-16 | CA | San Diego | Brown Field Muni | 6/6385 | 02/24/16 | RNAV (GPS) RWY 8L, Amdt 1A.
28-Apr-16 | SD | Aberdeen | Aberdeen Rgnl | 6/6433 | 02/23/16 | RNAV (GPS) RWY 31, Orig.
28-Apr-16 | CA | Willits | Ells Field-Willits Muni | 6/6458 | 03/03/16 | RNAV (GPS) RWY 16, Amdt 1A.
28-Apr-16 | PA | Hazleton | Hazleton Rgnl | 6/6675 | 03/03/16 | LOC RWY 28, Amdt 7.
28-Apr-16 | WI | Milwaukee | General Mitchell Intl | 6/6823 | 03/03/16 | RNAV (GPS) RWY 13, Orig.
28-Apr-16 | AR | Stuttgart | Stuttgart Muni | 6/6860 | 02/23/16 | RNAV (GPS) RWY 9, Orig-A.
28-Apr-16 | AR | Stuttgart | Stuttgart Muni | 6/6861 | 02/23/16 | RNAV (GPS) RWY 27, Amdt 1A.
28-Apr-16 | AR | Stuttgart | Stuttgart Muni | 6/6863 | 02/23/16 | ILS OR LOC RWY 36, Orig-A.
28-Apr-16 | AR | Stuttgart | Stuttgart Muni | 6/6864 | 02/23/16 | RNAV (GPS) RWY 36, Amdt 1A.
28-Apr-16 | TX | Houston | Houston-Southwest | 6/6947 | 03/03/16 | LOC/DME RWY 9, Amdt 3B.
28-Apr-16 | WI | Phillips | Price County | 6/6949 | 03/03/16 | RNAV (GPS) RWY 19, Orig-B.
28-Apr-16 | WA | Wenatchee | Pangborn Memorial | 6/7191 | 02/22/16 | VOR/DME-A, Amdt 8.
28-Apr-16 | WA | Wenatchee | Pangborn Memorial | 6/7192 | 02/22/16 | VOR/DME-C, Amdt 4.
28-Apr-16 | WA | Deer Park | Deer Park | 6/7221 | 03/01/16 | RNAV (GPS) RWY 34, Orig.
28-Apr-16 | CA | San Diego/El Cajon | Gillespie Field | 6/7269 | 03/03/16 | LOC/DME-D, Amdt 11A.
28-Apr-16 | CA | San Diego/El Cajon | Gillespie Field | 6/7270 | 03/03/16 | RNAV (GPS) RWY 17, Amdt 2C.
28-Apr-16 | ID | Idaho Falls | Idaho Falls Rgnl | 6/7813 | 03/07/16 | RNAV (GPS) Y RWY 20, Amdt 1B.
28-Apr-16 | ID | Idaho Falls | Idaho Falls Rgnl | 6/7814 | 03/07/16 | ILS OR LOC RWY 20, Amdt 11G.
28-Apr-16 | ID | Idaho Falls | Idaho Falls Rgnl | 6/7815 | 03/07/16 | VOR RWY 2, Amdt 6B.
28-Apr-16 | ID | Idaho Falls | Idaho Falls Rgnl | 6/7816 | 03/07/16 | VOR RWY 20, Amdt 10.
28-Apr-16 | ID | Idaho Falls | Idaho Falls Rgnl | 6/7817 | 03/07/16 | RNAV (GPS) Y RWY 2, Amdt 1.
28-Apr-16 | ID | Idaho Falls | Idaho Falls Rgnl | 6/7819 | 03/07/16 | LOC BC RWY 2, Amdt 6B.
28-Apr-16 | ID | Idaho Falls | Idaho Falls Rgnl | 6/7820 | 03/07/16 | RNAV (RNP) Z RWY 20, Orig-B.
28-Apr-16 | ID | Idaho Falls | Idaho Falls Rgnl | 6/7821 | 03/07/16 | RNAV (RNP) Z RWY 2, Orig-A.
28-Apr-16 | NC | Roanoke Rapids | Halifax-Northampton Rgnl | 6/7844 | 03/03/16 | RNAV (GPS) RWY 2, Amdt 1A.
28-Apr-16 | CO | Telluride | Telluride Rgnl | 6/8240 | 03/07/16 | RNAV (GPS) Z RWY 9, Orig.
28-Apr-16 | PA | Hazleton | Hazleton Rgnl | 6/8305 | 03/03/16 | VOR RWY 10, Amdt 11A.
28-Apr-16 | PA | Hazleton | Hazleton Rgnl | 6/8311 | 03/03/16 | VOR RWY 28, Amdt 9A.
28-Apr-16 | KY | Louisville | Louisville Intl-Standiford Field | 6/9089 | 02/22/16 | ILS OR LOC RWY 17L, Amdt 4E.
28-Apr-16 | AZ | Goodyear | Phoenix Goodyear | 6/9293 | 03/01/16 | RNAV (GPS) RWY 3, Orig-A.
28-Apr-16 | CA | Los Angeles | Los Angeles Intl | 6/9822 | 03/01/16 | RNAV (RNP) Z RWY 7R, Orig-C.

[FR Doc. 2016-06329 Filed 3-23-16; 8:45 am]

BILLING CODE 4910-13-P